POSTAL REGULATORY COMMISSION

Sunshine Act Meetings

NAME OF AGENCY: Postal Regulatory Commission.

TIME AND DATE: Tuesday, July 31, 2007 at 11:45 a.m.

PLACE: Commission conference room 901 New York Avenue, NW., Suite 200, Washington, DC 20268-0001.

STATUS: Open.

MATTERS TO BE CONSIDERED: Agency organization—whether to alter names of the Office of Rates, Analysis and Planning and Office of Public Affairs and Governmental Relations to better reflect functions and responsibilities.

CONTACT PERSON FOR MORE INFORMATION: Stephen L. Sharfman, General Counsel, Postal Regulatory Commission, 901 New York Avenue, NW., Suite 200, Washington, DC 20268-0001, 202-789-6820.

Dated: Thursday, July 26, 2007.
Garry J. Sikora
Acting Secretary.

[FR Doc. 07-3721 Filed 7-26-07; 12:52 pm]

BILLING CODE 7710-FW-M